DEPARTMENT OF LABOR

Employment and Training Administration

[TA-W-62,184; TA-W-62,184A]

Mark Eyelet, Inc., Including On-Site Leased Workers of Jaci Carroll Staffing, Watertown, CT; Ozzi II, Inc., (DBA OC Eyelet), Including On-Site Leased Workers of Watertown, CT; Notice of Negative Determination on Reconsideration

On January 7, 2007, the Department issued an Affirmative Determination Regarding Application for Reconsideration for the workers and former workers of the subject firm. The notice was published in the Federal Register on January 16, 2008 (73 FR 2941).

The initial investigation resulted in a negative determination based on the finding that imports of eyelet parts and miniature stamping did not contribute importantly to worker separations at the subject firm and no shift of production to a foreign source occurred.

The company official of the subject firm filed a request for reconsideration and provided a list of customers which allegedly are importing products.

On reconsideration the Department of Labor surveyed these declining customers regarding their purchases of like or directly competitive products with eyelet parts and miniature stampings purchased from the subject firm in 2005, 2006, and during January through September 2007 over the corresponding 2006 period. The survey revealed that the customers did not import eyelet parts and miniature stampings during the relevant period.

The petitioner also stated that the subject firm did not shift production of eyelet parts and miniature stamping abroad, but the customers of the subject firm shifted production of automotive and electronic parts production to China, thus negatively impacting production at the subject firm.

The fact that subject firm's customers are shifting their production abroad is not relevant to this investigation. According to section (a)(2)(B) of the Trade Act, in order to be eligible for TAA on the basis of a shift in production abroad, the shift in production must be implemented by the subject firm or its subdivision.

In this case, the subject firm did not import eyelet parts and miniature stampings nor was there a shift in production from subject firm abroad during the relevant period.

Conclusion

After reconsideration, I affirm the original notice of negative determination of eligibility to apply for worker adjustment assistance for workers and former workers of Mark Eyelet, Inc., including on-site leased workers of Jaci Carroll Staffing Watertown, Connecticut (TA-W-62,184) and Ozzi II, Inc., (dba OC Eyelet), including on-site leased workers of Jaci Carroll Staffing, Watertown, Connecticut (TA-W-62,184A).

Signed at Washington, DC this 6th day of February, 2008.
Elliott S. Kushner,
Certifying Officer, Division of Trade Adjustment Assistance.

[FR Doc. E8-2622 Filed 2-12-08; 8:45 am]

BILLING CODE 4510-FN-P